DEPARTMENT OF HOMELAND SECURITY

Federal Emergency Management Agency

44 CFR Part 67

[Docket No. FEMA-D-7570]

Proposed Flood Elevation Determinations

AGENCY: Federal Emergency Management Agency (FEMA), Emergency Preparedness and Response Directorate, Department of Homeland Security.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Doug Bellomo, P.E., FEMA, 500 C Street SW., Washington, DC 20472, (202) 646-2903.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified base flood elevations are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground *Elevation in feet (NGVD) • Elevation in feet (NAVD): Existing | #Depth in feet above ground *Elevation in feet (NGVD) • Elevation in feet (NAVD): Modified | Communities affected
NORTH CAROLINA
Edgecombe County
Fishing Creek | Approximately 0.8 mile upstream of the confluence with Deep Creek | None | •48 | Edgecombe County (Unincorporated Areas).
| At the downstream side of Rail Road | None | •96 |
Maple Swamp | Approximately 575 feet downstream of NC Highway 97 | •51 | •52 | Edgecombe County (Unincorporated Areas).
| Approximately 0.7 mile downstream of Bethlehem Church Road | None | •60 |
Moccasin Swamp | Approximately 0.5 mile upstream of confluence with Swift Creek | None | •75 | Edgecombe County (Unincorporated Areas).
| Approximately 800 feet downstream of Morning Star Church Road | None | •75 |
Edgecombe County (Unincorporated Areas)
Maps available for inspection at Edgecombe County (Unincorporated Areas) Planning Department, 201 Saint Andrews Street, Tarboro, North Carolina.
Send comments to Mr. Lorenzo Carmon, Edgecombe County (Unincorporated Areas) Manager, 201 Saint Andrews Street, Tarboro, North Carolina 27866.
Hollis Branch | Approximately 450 feet downstream of the Craven/Jones County boundary | None | •35 | Jones County (Unincorporated Areas).
| Approximately 800 feet upstream of the Craven/Jones County boundary | None | •36 |
Unincorporated Areas of Jones County
Maps available for inspection at the Jones County Building and Inspections Department, 101 Market Street, Trenton, North Carolina.
Send comments to Mr. Larry Meadows, Jones County Manager, P.O. Box 340, Trenton, North Carolina 28585.
NORTH CAROLINA
Lenoir County
Adkin Branch | At the confluence with Neuse River | •33 | •35 | City of Kinston, Lenoir County (Unincorporated Areas).
| Approximately 0.4 mile upstream of Carey Road | None | •76 |
Bear Creek | At the confluence with Neuse River | •49 | •52 | Town of LaGrange, Lenoir County (Unincorporated Areas).
| At the Lenoir/Greene County boundary | •83 | •82 |
Southwest Creek | At the confluence with Neuse River | •29 | •32 | City of Kinston, Lenoir County (Unincorporated Areas).
| At the downstream side of railroad | •33 | •34 |
Moseley Creek into Falling Creek | At the downstream LaGrange corporate limit | None | •76 | Town of LaGrange.
| Approximately 150 feet upstream of State Highway 903 | None | •92 |
Briery Run | Approximately 1,000 feet upstream of Rouse Road | None | •67 | City of Kinston, Lenoir County (Unincorporated Areas).
| Approximately 0.5 mile upstream of Dobbs Farm Road | None | •80 |
Falling Creek | At the confluence with Neuse River | •38 | •42 | City of Kinston, Lenoir County (Unincorporated Areas).
| Approximately 1.6 miles upstream of Brothers Road | None | •85 |
Taylors Branch | Approximately 300 feet upstream of Rouse Road | None | •72 | City of Kinston, Lenoir County (Unincorporated Areas).
| Approximately 1.4 miles upstream of Rouse Road | None | •101 |
Eagle Swamp | At the confluence with Contentnea Creek | •23 | •25 | Lenoir County (Unincorporated Areas).
| At the downstream side of railroad | •24 | •25 |
Contentnea Creek | At the confluence with Neuse River | •19 | •24 | Lenoir County (Unincorporated Areas).
| Approximately 2.6 miles upstream of Hugo Road | •33 | •34 |
Neuse River | At the confluence with Contentnea Creek | •19 | •24 | City of Kinston, Lenoir County (Unincorporated Areas).
| At the Lenoir/Wayne County boundary | •53 | •55 |
Wheat Swamp | At the Lenoir/Greene County boundary | None | •39 | Lenoir County (Unincorporated Areas).
| Approximately 4 miles upstream of NC Route 58 | None | •77
Wheat Swamp Tributary | At the Lenoir/Greene County boundary | None | •40 | Lenoir County (Unincorporated Areas).
| Approximately 0.4 mile upstream of Research Farm Road | None | •56
Stonyton Creek | At the confluence with Neuse River | •26 | •29 | Lenoir County (Unincorporated Areas).
| Approximately 1,400 feet upstream of the confluence with Jerico Run | •31 | •30
Jerico Run | At the confluence with Stonyton Creek | •27 | •29 | Lenoir County (Unincorporated Areas).
| Approximately 300 feet downstream of State Route 55 | •28 | •29
Mosley Creek to Neuse River | At the confluence with Neuse River | •19 | •25 | Lenoir County (Unincorporated Areas).
| Approximately 650 feet downstream of Griffin Road | None | •31
Beaverdam Swamp | At the confluence with Trent River | None | •68 | Lenoir County (Unincorporated Areas).
| Approximately 200 feet upstream of Rex-Howard Road | None | •95
Deep Run | Approximately 425 feet upstream of NC State Highway 11 | None | •87 | Lenoir County (Unincorporated Areas).
| Approximately 0.7 mile upstream of NC State Highway 11 | None | •95
Horse Branch | At the confluence with Trent River | None | •71 | Lenoir County (Unincorporated Areas).
| Approximately 2,120 feet upstream of Jesse Howard Road | None | •74
Joshua Creek | Approximately 1,200 feet upstream of Fordham Road | None | •63 | Lenoir County (Unincorporated Areas).
| Approximately 1.2 miles upstream of Vine Swamp Road | None | •82
Neuse River Tributary | At the confluence with Neuse River | •38 | •42 | City of Kinston.
| Approximately 1,400 feet upstream of railroad | None | •56
Southwest Creek Tributary | At the confluence with Southwest Creek | •32 | •34 | City of Kinston, Lenoir County (Unincorporated Areas).
| Approximately 1,250 feet downstream of British Road | •33 | •35
Strawberry Branch | At the confluence with Southwest Creek | None | •39 | City of Kinston, Lenoir County (Unincorporated Areas).
| Approximately 150 feet downstream of Whaley Road | None | •47
Tracey Swamp | At the upstream side of Sand Hill Road | None | •42 | Lenoir County (Unincorporated Areas).
| At the Lenoir/Craven/Jones County boundary | None | •43
Trent River | At the Lenoir/Jones County boundary | None | •62 | Lenoir County (Unincorporated Areas).
| Approximately 0.5 mile upstream of NC State Route 11 | None | •123
Neuse River Tributary 2 | At the confluence with Neuse River Tributary | None | •44 | City of Kinston.
| Approximately 1,800 feet upstream of railroad | None | •62
Vine Swamp | At the Lenoir/Jones County boundary | None | •57 | Lenoir County (Unincorporated Areas).
| Approximately 800 feet upstream of Parker Farm Road | None | •81
Vine Swamp Tributary | At the confluence with Vine Swamp | None | •62 | Lenoir County (Unincorporated Areas).
| Approximately 0.5 mile upstream of Joe Williams Road | None | •67
Tuckahoe Swamp | At the Lenoir/Jones County boundary | •77 | •81 | Lenoir County (Unincorporated Areas).
| Approximately 0.5 mile downstream of West Hill Pleasant Road | •86 | •87
Rivermont Tributary | At the confluence with Neuse River | •36 | •37 | City of Kinston, Lenoir County (Unincorporated Areas).
| Approximately 1,200 feet Areas) upstream of Andrews Street | •37 | •39
City of Kinston
Maps available for inspection at the City of Kinston Planning Department, 301 East King Street, Kinston, North Carolina.
Send comments to The Honorable Johnnie Mosley, Mayor of the City of Kinston, P.O. Box 339, Kinston, North Carolina 28502.
Town of La Grange
Maps available for inspection at the La Grange Town Hall, 120 East Railroad Street, La Grange, North Carolina.
Send comments to The Honorable Woodard H. Gurley, Mayor of the Town of La Grange, P.O. Box 368, La Grange, North Carolina 28551.
Lenoir County Unincorporated Areas
Maps available for inspection at the Lenoir County Building Inspector's Office, 201 East King Street, Kinston, North Carolina.
Send comments to Mr. John Bauer, Lenoir County Manager, P.O. Box 3289, Kinston, North Carolina 28502.
NORTH CAROLINA
Pamlico County
Alexander Swamp | Approximately 500 feet upstream of the confluence with Goose Creek | None | •8 | Pamlico County (Unincorporated Areas).
| Approximately 2.0 miles downstream of the confluence with Goose Creek | None | •15
Bay River/Vandemere Creek | At the intersection of 1st Lane and Water Lane | None | •7 | City of Mesic.
Beard Creek | Approximately 0.8 mile downstream of the confluence of Cedar Gut | None | •8 | Pamlico County (Unincorporated Areas).
| Approximately 0.8 mile upstream of Roberts Road | None | •14 |
Black Creek | Approximately 0.8 mile downstream of Prescott Road | None | •8 | Pamlico County (Unincorporated Areas).
| Approximately 600 feet upstream of Prescott Road | None | •16 |
Caraway Creek | Approximately 0.6 mile upstream of confluence with Beard Creek | None | •8 | Pamlico County (Unincorporated Areas).
| Approximately 0.8 mile upstream of Marvin Field Road | None | •14 |
Cedar Gut | At the confluence with Beard Creek | None | •8 | Pamlico County (Unincorporated Areas).
| Approximately 0.6 mile upstream of Neuse Road | None | •13 |
Deep Run South | At the confluence with Dawson Creek | None | •8 | Pamlico County (Unincorporated Areas).
| Approximately 900 feet upstream of Don Lee Road | None | •9 |
Deep Run North | At the confluence with Upper Broad Creek | None | •11 | Pamlico County (Unincorporated Areas).
| Approximately 0.5 mile upstream of the confluence with Upper Broad Creek | None | •15 |
Deep Run Branch | At the confluence with Goose Creek | None | •11 | Pamlico County (Unincorporated Areas).
| Approximately 0.5 mile upstream of the confluence with Goose Creek | None | •13 |
East Prong | At the confluence with Beard Creek | None | •8 | Pamlico County (Unincorporated Areas).
| Approximately 1.8 miles upstream of the confluence with Beard Creek | None | •16 |
Fork Run | Approximately 0.7 mile downstream of confluence of Deep South Run | None | •8 | Pamlico County (Unincorporated Areas).
| Approximately 0.5 mile upstream of Kershaw Road | None | •11 |
Goose Creek | At Neuse Road | None | •8 | Pamlico County (Unincorporated Areas), Town of Grantsboro.
| Approximately 1.7 miles upstream of confluence of Deep Run Branch | None | •15 |
Granny Gut | At the confluence with Dawson Creek | None | •8 | Pamlico County (Unincorporated Areas).
| Approximately 1,500 feet upstream of Kershaw Road | None | •8 |
Green's Creek | Approximately 1,750 feet west-southwest of the intersection of Harris Farm Road and Kershaw Road | None | •9 | Pamlico County (Unincorporated Areas).
Kershaw Creek | Approximately 1,500 feet north-northeast of the intersection of Harris Farm Road and Kershaw Road | None | •7 | Pamlico County (Unincorporated Areas).
Mill Creek | Approximately 1,800 feet upstream of the confluence with Neuse River | None | •8 | Pamlico County (Unincorporated Areas).
| Approximately 1.8 miles upstream of the confluence with Neuse River | None | •9 |
Neal Creek | Approximately 0.6 mile upstream of confluence with South Prong Bay River | None | •7 | Pamlico County (Unincorporated Areas).
| Approximately 1.4 miles upstream of confluence with South Prong Bay River | None | •10 |
North Prong Bay River | Approximately 1.1 miles upstream of the confluence with Bay River | None | •7 | Pamlico County (Unincorporated Areas).
| Approximately 1.1 miles upstream of Mill Pond Road | None | •10 |
Pamlico River | Area within Goose Creek State Refuge | None | •6 | Pamlico County (Unincorporated Areas).
| Area within Goose Creek State Refuge | None | •7 |
Possum Swamp | At the confluence with Upper Broad Creek | None | •17 | Pamlico County (Unincorporated Areas).
| Approximately 0.9 mile upstream of the confluence of Savannah Bridge Swamp | None | •24 |
Sasses Branch | At the confluence with Upper Broad Creek | None | •8 | Pamlico County (Unincorporated Areas).
| Approximately 0.9 mile upstream of the confluence with Upper Broad Creek | None | •9 |
Savannah Bridge Swamp | At the confluence with Possum Swamp | None | •19 | Pamlico County (Unincorporated Areas).
| Approximately 0.5 mile upstream of the confluence with Possum Swamp | None | •23 |
South Prong Bay River | Approximately 1.0 mile upstream of Cooper Road | None | •9 | Pamlico County (Unincorporated Areas), Town of Alliance, Town of Grantsboro.
| Approximately 1.6 miles upstream of Cooper Road | None | •9 |
Southwest Fork Trent Creek | Approximately 0.5 mile upstream of confluence with Trent Creek | None | •6 | Pamlico County (Unincorporated Areas).
| Approximately 0.7 mile upstream of Isabelle Road | None | •7 |
Trent Creek | At Highway 55 | None | •6 | Pamlico County (Unincorporated Areas).
| Approximately 2.2 miles upstream of confluence of Fork Run 1 | None | •7
Upper Broad Creek (Neuse Basin) | At Lee Landing Road | None | •8 | Pamlico County (Unincorporated Areas).
| Approximately 3.2 miles upstream of Old Cross Road | None | •29
Upper Broad Creek (Tar-Pamlico Basin) | At the Beaufort/Pamlico County boundary | None | •31 | Pamlico County (Unincorporated Areas).
| Approximately 1.8 miles downstream of the Beaufort/Pamlico County boundary | None | •37
Wheeler Gut | At the confluence with Fork Run | None | •8 | Pamlico County (Unincorporated Areas).
| Approximately 0.5 mile upstream of the confluence with Fork Run | None | •9 |
Town of Alliance
Maps available for inspection at the Building Inspectors Office, 202 Main Street, Bayboro, North Carolina.
Send comments to The Honorable Lee Toler, Mayor of the Town of Alliance, 72 Courtland Drive, P.O. Box 1, Alliance, North Carolina 28509.
Town of Grantsboro
Maps available for inspection at the Building Inspectors Office, 202 Main Street, Bayboro, North Carolina.
Send comments to The Honorable Clifton E. Stowe, Mayor of the Town of Grantsboro, P.O. Box 83, Grantsboro, North Carolina 28529
City of Mesic
Maps available for inspection at the Building Inspectors Office, 202 Main Street, Bayboro, North Carolina.
Send comments to The Honorable Joe Ollison, Mayor of the City of Mesic, 8443 NC Highway 304, Bayboro, North Carolina 28515.
Pamlico County Unincorporated Areas
Maps available for inspection at the Building Inspectors Office, 202 Main Street, Bayboro, North Carolina.
Send comments to Mr. Randy Beeman, Pamlico County Manager, 302 Main Street, Bayboro, North Carolina 28515-0776.
NORTH CAROLINA
Person County
Alderidge Creek | At the upstream side of Berry Road | None | •527 | Person County (Unincorporated Areas).
| Approximately 0.7 mile upstream of Satterfield Road | None | •536
Alderidge Creek Tributary | At the confluence with Alderidge Creek | None | •530 | Person County (Unincorporated Areas).
| Approximately 0.3 mile upstream of the confluence with Alderidge Creek | None | •535
Bushy Fork Creek | Approximately 600 feet downstream of Charlie Long Road | None | •571 | Person County (Unincorporated Areas).
| Approximately 1.1 miles upstream of Bradsher Road | None | •616
Bushy Fork Creek Tributary | At the confluence with Bushy Fork Creek | None | •606 | Person County (Unincorporated Areas).
| Approximately 0.38 mile upstream of the confluence with Bushy Fork Creek | None | •622
Byrds Creek | Approximately 850 feet upstream of the confluence with South Flat River | None | •546 | Person County (Unincorporated Areas).
| Approximately 1.0 mile upstream of the confluence with South Flat River | None | •558
Cub Creek Tributary 1 | At the Person/Granville County boundary | None | •477 | Person County (Unincorporated Areas).
| Approximately 0.6 mile upstream of the confluence of Cub Creek Tributary 2 | None | •499
Cub Creek Tributary 2 | At the confluence with Cub Creek Tributary 1 | None | •490 | Person County (Unincorporated Areas).
| Approximately 1,500 feet upstream of the confluence with Cub Creek Tributary 1 | None | •496
Deep Creek | At the Person/Durham County boundary | None | •420 | Person County (Unincorporated Areas).
| Approximately 1.0 mile upstream of Mollie Moonie Road | None | •561
Deep Creek Tributary | At the confluence with Deep Creek | None | •477 | Person County (Unincorporated Areas).
| Approximately 2,000 feet upstream of the confluence with Deep Creek | None | •485
Deep Creek Tributary 2 | At the confluence with Deep Creek | None | •516 | Person County (Unincorporated Areas).
| Approximately 1,000 feet upstream of the confluence with Deep Creek | None | •520
Dial Creek | At the Person/Durham County boundary | None | •515 | Person County (Unincorporated Areas).
| Approximately 400 feet upstream of the Person/Durham County boundary | None | •519
Flat River Tributary 5 | At the confluence with Flat River | •473 | •474 | Person County (Unincorporated Areas).
| At the Person/Durham County boundary | None | •496
Lick Creek 1 | At the upstream side of Ashley Road | None | •533 | Person County (Unincorporated Areas).
| At the Person/Orange County boundary | None | •545
North Flat River | Approximately 500 feet upstream of Paynes Tavern Road | None | • 604 | Person County (Unincorporated Areas).
| Approximately 1.2 miles upstream of Paynes Tavern Road | None | • 617 |
North Flat River Tributary | Just upstream of Railroad crossing | None | • 542 | City of Roxboro, (Unincorporated Areas).
| Approximately 1.0 mile upstream of U.S. Highway 158 | None | • 711 |
North Flat River Tributary 2 | Approximately 600 feet upstream of the confluence with North Flat River | None | • 580 | City of Roxboro, Person County (Unincorporated Areas).
| Approximately 1.0 mile upstream of Industrial Drive | North | • 701 |
North Flat River Tributary 3 | At the confluence with North Flat River | None | • 604 | Person County (Unincorporated Areas).
| Approximately 325 feet upstream of Noah Davis Road | None | • 625 |
North Flat River Tributary 5 | At the confluence with North Flat River Tributary | None | • 582 | Person County (Unincorporated Areas).
| Approximately 0.7 mile upstream of the confluence with North Flat River Tributary | None | • 600 |
North Flat River Tributary 7 | At the confluence with North Flat River Tributary 2 | None | • 592 | Person County (Unincorporated Areas).
| Approximately 0.9 mile upstream of the confluence with North Flat River Tributary 2 | None | • 607 |
North Flat River Tributary 8 | At the confluence with North Flat River Tributary 2 | None | • 595 | Person County (Unincorporated Areas).
| Approximately 825 feet upstream of Hurdle Mills Road | None | • 606 |
North Flat River Tributary 9 | At the confluence with North Flat River Tributary 2 | None | • 608 | Person County (Unincorporated Areas).
| Approximately 0.9 mile upstream of the confluence with North Flat River Tributary 2 | None | • 649 |
Rock Fork | At the confluence with Deep Creek | None | • 445 | Person County (Unincorporated Areas).
| Approximately 0.7 miles upstream of the confluence with Deep Creek | None |  | • 453
South Flat River | At the upstream side of Jim Morton Road | *619 | • 618 | Person County (Unincorporated Areas).
| Approximately 1.1 miles upstream of the Jim Morton Road | None | • 627 |
South Flat River Tributary | Approximately 100 feet upstream of the confluence with South Flat River | None | • 491 | Person County (Unincorporated Areas).
| Approximately 1,000 feet upstream of U.S. Highway 501/State Route 57 | None | • 508 |
South Flat River Tributary 3 | Approximately 0.3 mile upstream of the confluence with South Flat River | None | • 517 | Person County (Unincorporated Areas).
| Approximately 0.6 mile upstream of the confluence with South Flat River | None | • 522 |
South Flat River Tributary 4 | Approximately 4,100 feet upstream of the confluence with South Flat River | None | • 593 | Person County (Unincorporated Areas).
| Approximately 0.8 mile upstream of the confluence with South Flat River | None | • 602 |
South Flat River Tributary 5 | Approximately 1,200 feet upstream of the confluence with South Flat River | None | • 603 | Person County (Unincorporated Areas).
| Approximately 575 feet upstream of Briggs Road | None | • 617 |
Tar River | At the Person/Granville County boundary | None | • 499 | Person County (Unincorporated Areas).
| Approximately 0.5 mile upstream of Gentry Road | None | • 551 |
Tar River Tributary 5 | At the confluence with the Tar River | None | • 510 | Person County (Unincorporated Areas).
| Approximately 150 feet upstream of Depot Street | None | • 541 |
City of Roxboro
Maps available for inspection at the Roxboro Planning Department, 105 South Lamar Street, Roxboro, North Carolina.
Send comments to The Honorable Lois Winstead, Mayor of the City of Roxboro, P.O. Box 128, Roxboro, North Carolina 27573.
Person County Unincorporated Areas
Maps available for inspection at the Person County Planning and Zoning Department, 20A Court Street, Roxboro, North Carolina.
Send comments to Mr. Steve Carpenter, Person County Manager, 304 South Morgan Street, Room 212, Roxboro, North Carolina 27573.
WISCONSIN
La Crosse County
Johns Coulee | At the confluence with Mormon Creek | None | • 725 | La Crosse County (Unincorporated Areas).
| Approximately 1 mile upstream of County Route YY | None | • 827 |
Mormon Creek | Approximately 0.8 mile upstream of the confluence with the Mississippi River | None | *645 | City of La Crosse, La Crosse County (Unincorporated Areas).
| Approximately 100 feet upstream of County Route M | None | *766
Sand Lake Coulee | Approximately 200 feet downstream of County Route OT | None | *650 | Village of Holmen, La Crosse, La Crosse County (Unincorporated Areas).
| Approximately 0.8 mile upstream of Moos Drive | None | *770
Smith Valley Creek | Approximately 1,000 feet upstream of the confluence with La Crosse River | *658 | *659 | La Crosse, La Crosse County (Unincorporated Areas).
| Approximately 2.1 miles upstream of Kiel Coulee Road | None | *814
Black River | Just upstream of the dam | *648 | *647 | City of Onalaska.
| Approximately 1.1 miles upstream of the dam | *648 | *647
Green Coulee | Approximately 0.5 mile downstream of Main Street | None | *710 | La Crosse, La Crosse County (Unincorporated Areas).
| Approximately 250 feet upstream of Main Street | None | *716
La Crosse River | Approximately 0.9 mile downstream of 17th Avenue North | None | *712 | La Crosse, La Crosse County (Unincorporated Areas).
| Approximately 0.9 mile upstream of 17th Avenue North | None | *718
State Road Coulee | Approximately 620 feet downstream of Stry Drive | *691 | *683 | La Crosse, La Crosse County (Unincorporated Areas).
| Approximately 1,000 feet downstream of Haas Farm Drive | *702 | *701
Sand Lake Coulee | Approximately 200 feet downstream of County Route OT | None | *650 | Village of Holmen, La Crosse, La Crosse County (Unincorporated Areas).
| Approximately 0.8 mile upstream of Moos Drive | None | *770
La Crosse County (Unincorporated Areas)
Maps available for inspection at the La Crosse County Zoning, Planning and Land Information Department, 400 4th Street North, Room 105, La Crosse, Wisconsin.
Send comments to Mr. Steve Doyle, La Crosse County Board Chairman, 400 4th Street North, Room 101, La Crosse, Wisconsin 54601-3200.
City of La Crosse
Maps available for inspection at the La Crosse City Hall, 400 La Crosse Street, La Crosse, Wisconsin.
Send comments to the Honorable John Medinger, Mayor of the City of La Crosse, 400 La Crosse Street, La Crosse, Wisconsin 54601.
City of Onalaska
Maps available for inspection at the Onalaska City Hall, Engineering Department, 415 Main Street, Onalaska, Wisconsin.
Send comments to the Honorable James Bialecki, Mayor of the City of Onalaska, 415 Main Street, Onalaska, Wisconsin 54650.
Village of Holmen
Maps available for inspection at the Holmen Village Hall, 428 South Main Street, Holmen, Wisconsin.
Send comments to Mr. John Chapman, Holmen Village President, 428 South Main Street, Holmen, Wisconsin 54636.

(Catalog of Federal Domestic Assistance No. 83.100, “Flood Insurance”)
Dated: July 21, 2003.
Anthony S. Lowe,
Mitigation Division Director, Emergency Preparedness and Response Directorate.

[FR Doc. 03-19248 Filed 7-28-03; 8:45 am]

BILLING CODE 6718-04-P